DEPARTMENT OF STATE

[Public Notice 5110]

In the Matter of the Designation of the Islamic Jihad Group, aka the Jama'at al-Jihad, aka the Libyan Society, aka the Kazakh Jama'at, aka the Jamaat Mojahedin, aka Jamiyat, aka Jamiat al-Jihad al-Islami, aka Dzhamaat Modzhakhedov, aka Islamic Jihad Group of Uzbekistan, aka al-Djihad al-Islami (Including Any and All Transliterations of Its Name) as a Foreign Terrorist Organization Pursuant to Section 219 of the Immigration and Nationality Act, as Amended

Based upon a review of the Administrative Record assembled in this matter, and in consultation with the Attorney General and the Secretary of the Treasury, the Secretary of State has concluded that there is a sufficient factual basis to find that the relevant circumstances described in section 219 of the Immigration and Nationality Act, as amended (8 U.S.C. section 1189), exist with respect to the Islamic Jihad Group, aka the Jama'at al-Jihad, aka the Libyan Society, aka the Kazakh Jama'at, aka the Jamaat Mojahedin, aka Jamiyat, aka Jamiat al-Jihad al-Islami, aka Dzhamaat Modzhakhedov, aka Islamic Jihad Group of Uzbekistan, aka al-Djihad al-Islami (including any and all transliterations of its name). Therefore, effective upon the date of publication in the Federal Register, the Secretary of State hereby designates that organization as a foreign terrorist organization pursuant to section 219 of the INA.

Dated: June 12, 2005.
Karen Aguilar,
Acting Coordinator for Counterterrorism, Department of State.

[FR Doc. 05-12010 Filed 6-16-05; 5:00 pm]

BILLING CODE 4710-10-P